DEPARTMENT OF THE TREASURY

Internal Revenue Service

26 CFR Part 31

[REG-110374-00]

RIN 1545-AY21

Interest-Free Adjustments With Respect to Underpayments of Employment Taxes; Correction

AGENCY: Internal Revenue Service (IRS), Treasury.

ACTON: Correction to notice of proposed rulemaking.

SUMMARY: This document contains a correction to a notice of proposed rulemaking that was published in the Federal Register on Wednesday, January 17, 2001 (66 FR 3956), relating to interest-free adjustments with respect to underpayments of employment taxes.

FOR FURTHER INFORMATION CONTACT: Anne O'Connell Devereaux (202) 622-3850 (not a toll-free number).

SUPPLEMENTARY INFORMATION:

Background

The notice of proposed rulemaking (REG-110374-00), that is the subject of this correction is under section 6205 of the Internal Revenue Code.

Need for Correction

As published the notice of proposed rulemaking (REG-110374-00), contains an error that may prove to be misleading and is in need of clarification.

Correction of Publication

Accordingly, the publication of the notice of proposed rulemaking which was the subject of FR Doc. 01-273, is corrected as follows:

On page 3958, column 2, in the preamble under the paragraph heading “Proposed Effective Date”, the first paragraph, line 7, the language “January 12, 2001. No inference is” is corrected to read “January 17, 2001. No inference is”.

Cynthia E. Grigsby,
Chief, Regulations Unit, Office of Special Counsel (Modernization & Strategic Planning).

[FR Doc. 01-5283 Filed 3-2-01; 8:45 am]

BILLING CODE 4830-01-P